DEPARTMENT OF ENERGY

Federal Energy Regulatory Commission

[Docket No. EL03-9-000]

Alternate Power Source, Inc. Complainant, v. Western Massachusetts Electric Company and Northeast Utilities System Respondent.; Notice of Complaint and Request for Fast Track Processing

October 10, 2002.

Take notice that on October 8, 2002 Alternate Power Source Inc., filed a complaint against Northeast Utilities System and Western Massachusetts Electric Company alleging discriminatory transmission pricing practices and violations of filed rate tariffs.

Copies of said filing have been served upon the utility regulatory agencies for two New England States.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before October 28, 2002. This filing is available for review at the Commission in the Public Reference Room or may be viewed on the Commission's Web site at http://www.ferc.gov using the “FERRIS” link. Enter the docket number excluding the last three digits in the docket number field to access the document. For Assistance, call (202) 502-8222 or for TTY, (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-26387 Filed 10-16-02; 8:45 am]

BILLING CODE 6717-01-P